DEPARTMENT OF ENERGY

Federal Energy Regulatory Commission

[Project No. 2107-065]

Pacific Gas & Electric Company; Notice of Availability of Environmental Assessment

In accordance with the National Environmental Policy Act of 1969 and the Federal Energy Regulatory Commission's (Commission or FERC) regulations, 18 CFR part 380, Commission staff reviewed Pacific Gas & Electric's (licensee) application for a temporary variance from required minimum flows under California State Water Resources Control Board's section 401 Water Quality Certification condition 1 and U.S. Department of Agriculture, Forest Service (Forest Service) 4(e) condition 23 Part 1 of its project license and have prepared an Environmental Assessment (EA) for the variance.¹ The licensee proposes to reduce flows released from Poe Dam so that instream flows of the bypassed reach are maintained at least at 100 cubic feet per second, from the time of variance approval through November 15, 2025. The licensee states that this temporary reduction is necessary to facilitate recoating the radial bypass gates and replacing the seals, the gate hoist, and its controls. The project is located on the North Fork Feather River upstream of Lake Oroville near the Town of Pulga, in Butte County, California. It occupies federal land within the Plumas National Forest, administered by the Forest Service.

¹ In accordance with the Council on Environmental Quality's regulations, the unique identification number for documents relating to this environmental review is EAXX-019-20-000-1747814721.

The EA contains Commission staff's analysis of the potential environmental effects of the proposed temporary flow variance, alternatives to the proposed action, and concludes that the proposed variance, would not constitute a major federal action that would significantly affect the quality of the human environment.

The EA may be viewed on the Commission's website at http://www.ferc.gov using the “elibrary” link. Enter the docket number (P-2107-065) in the docket number field to access the document. For assistance, contact FERC Online Support at FERCOnlineSupport@ferc.gov or toll-free at 1-866-208-3676, or for TTY, (202) 502-8659.

You may also register online at http://www.ferc.gov/docs-filing/esubscription.asp to be notified via email of new filings and issuances related to this or other pending projects. For assistance, contact FERC Online Support.

The Commission's Office of Public Participation (OPP) supports meaningful public engagement and participation in Commission proceedings. OPP can help members of the public, including landowners, Tribal members and others, access publicly available information and navigate Commission processes. For public inquiries and assistance with making filings such as interventions, comments, or requests for rehearing, the public is encouraged to contact OPP at (202) 502-6595 or OPP@ferc.gov.

For further information, contact Katie Schmidt at (415) 369-3348 or katherine.schmidt@ferc.gov.

Dated: June 18, 2025.
Debbie-Anne A. Reese,
Secretary.

[FR Doc. 2025-11579 Filed 6-23-25; 8:45 am]

BILLING CODE 6717-01-P